DEPARTMENT OF ENERGY

Federal Energy Regulatory Commission

[Docket No. IC01-525-001, FERC-525]

Information Collection Submitted for Review and Request for Comments

June 28, 2001.

AGENCY: Federal Energy Regulatory Commission, DOE.

ACTION: Notice of submission for review by the Office of Management and Budget (OMB) and request for comments.

SUMMARY: The Federal Energy Regulatory Commission (Commission) has submitted the energy information collection listed in this notice to the Office of Management and Budget (OMB) for review under provisions of Section 3507 of the Paperwork Reduction Act of 1995 (Pub. L. 104-13). Any interested person may file comments on the collection of information directly with OMB and should address a copy of those comments to the Commission as explained below. The Commission received no comments in response to an earlier Federal Register notice of April 4, 2001 (66 FR 17870-71) and has made this notation in its submission to OMB.

DATES: Comments regarding this collection of information are best assured of having their full effect if received within 30 days of this notification.

ADDRESSES: Address comments to Office of Management and Budget, Office of Information and Regulatory Affairs, Attention: Federal Energy Regulatory Commission, Desk Officer, Room 10202 NEOB, 725 17th Street, NW., Washington, DC 20503. A copy of the comments should also be sent to Federal Energy Regulatory Commission, Office of the Chief Information Officer, Attention: Mr. Michael Miller, 888 First Street NE., Washington, DC 20426.

FOR FURTHER INFORMATION CONTACT: Michael Miller may be reached by telephone at (202) 208-1415, by fax at (202) 273-0873, and by e-mail at mike.miller@ferc.fed.us.

SUPPLEMENTARY INFORMATION:

Description

The energy information collection submitted to OMB for review contains:

1. Collection of Information: FERC-525 “Financial Audits.”

2. Sponsor: Federal Energy Regulatory Commission.

3. Control No.: OMB No. 1902-0092. The Commission is now requesting that OMB approve a three-year extension of the current expiration date, with no change to the existing collection. There is a decrease in the reporting burden due to the Commission's shift in emphasis from periodic audits that ensure companies' financial records conform to FERC's accounting and reporting requirements to audits that assess and evaluate the regulatory implication of industry practices and standards. These are mandatory information collection requirements.

4. Necessity of Collection of Information: Submission of the information is necessary to enable the Commission to carry out its responsibilities in implementing the provisions of the Federal Power Act (EPA), the Natural Gas Act (NGA) and the Interstate Commerce Act (ICA). These statutes provide the Commission with the authority and responsibility for ensuring compliance by jurisdictional companies with the Acts' requirements. The information gathered under Commission identifier FERC-525 is obtained during financial/compliance audits of jurisdictional companies forming the basis of the audit staff's opinion regarding (1) the reliability of financial data filed with the FERC by companies, (2) the extent of conformance by the companies with the Uniform System of Accounts and other regulations of the FERC, and (3) compliance with the FERC's regulation for open access transportation of natural gas and electric energy including standards of conduct and electronic bulletin board postings of transportation/transmission availability and pricing.

5. Respondent Description: The respondent universe currently comprises on average, 50 companies subject to a Commission audit annually.

6. Estimated Burden: 5,000 total burden hours, 50 respondents, 1 response annually, 100 hours per response (average).

7. Estimated Cost Burden to Respondents: 5,000 hours ÷ 2,080 hours per year × $117,041 per year = $281,349 total costs and average cost per respondent = $5,627.

Authority: Sec. 4(b), 208, 301(b), 302, 307 and 308 of the Federal Power Act, U.S.C. 792-828g; sec. 6, 8(b), 9 and 10 of the Natural Gas Act, 15 U.S.C. 717-717w; and sec. 19 and 20 of the Interstate Commerce Act, 49 U.S.C. 19-20.

David P. Boergers,
Secretary.

[FR Doc. 01-16747 Filed 7-03-01; 8:45 am]

BILLING CODE 6717-01-M